DEPARTMENT OF COMMERCE

National Oceanic and Atmospheric Administration

[RTID 0648-XA086]

Atlantic Highly Migratory Species; Final Amendment 12 to the 2006 Consolidated Atlantic Highly Migratory Species Fishery Management Plan

AGENCY: National Marine Fisheries Service (NMFS), National Oceanic and Atmospheric Administration (NOAA), Commerce.

ACTION: Notice of availability of a fishery management plan amendment.

SUMMARY: NMFS announces the availability of Final Amendment 12 to the 2006 Consolidated Atlantic Highly Migratory Species (HMS) Fishery Management Plan (FMP). The Final Amendment responds to revisions to the Magnuson-Stevens Fishery Conservation and Management Act (Magnuson-Stevens Act) National Standard (NS) guidelines, a rulemaking addressing reporting methodologies for bycatch as defined under the Magnuson-Stevens Act, and recent NMFS policy directives which aim to improve and streamline fishery management procedures to enhance their utility for managers and the public. This final amendment does not include a proposed rule or regulatory text. Any operational changes to fishery management measures as a result of Final Amendment 12 would be considered in future rulemakings, as appropriate.

DATES: The amendment was approved on August 16, 2021.

ADDRESSES: Electronic copies of Final Amendment 12 to the 2006 Consolidated HMS FMP may be obtained on the internet at: https://www.fisheries.noaa.gov/action/amendment-12-2006-consolidated-hms-fishery-management-plan-msa-guidelines-and-national.

FOR FURTHER INFORMATION CONTACT: Sarah McLaughlin, sarah.mclaughlin@noaa.gov, 978-281-9260, or Karyl Brewster-Geisz, karyl.brewster-geisz@noaa.gov, 301-427-8503.

SUPPLEMENTARY INFORMATION: Atlantic HMS fisheries are managed under the authority of the Atlantic Tunas Convention Act (ATCA; 16 U.S.C. 971 et seq.) and the Magnuson-Stevens Act (16 U.S.C. 1801 et seq.). The 2006 Consolidated Atlantic HMS FMP and its amendments are implemented by regulations at 50 CFR part 635.

The Magnuson-Stevens Act requires that any FMP or FMP amendment be consistent with 10 NSs. In 2016, NMFS published a final rule revising the guidelines for NS1, NS3, and NS7 to improve and clarify the guidance and to facilitate compliance with requirements of the Magnuson-Stevens Act to end and prevent overfishing, rebuild overfished stocks, and achieve optimum yield (OY) (81 FR 71858, October 18, 2016). The final rule on the NS guidelines included a recommendation that FMP objectives should be reassessed on a regular basis to reflect the changing needs of fisheries over time. Although no time frame was prescribed, the guidelines indicated that NMFS should provide notice to the public of the expected schedule for review. The final rule also noted that, for stocks managed under international agreements, consistent with provisions in the Magnuson-Stevens Act, NMFS may decide to use the international stock status determination criteria (SDC) defined by the relevant international body (e.g., the International Commission for the Conservation of Atlantic Tunas (ICCAT)). Thus, Final Amendment 12 revises some of the objectives contained in the 2006 Consolidated Atlantic HMS FMP, and adopts the ICCAT SDC for ICCAT-managed HMS.

The Magnuson-Stevens Act further requires that any FMP, with respect to any fishery, establish standardized bycatch reporting methodology (SBRM) to assess the amount and type of bycatch occurring in a fishery. On January 19, 2017, NMFS published a final rule (82 FR 6317) to interpret and provide guidance on this requirement. Specifically, the 2017 final rule indicated that each FMP must identify the required procedure or procedures that constitute the SBRM for a fishery and conduct an analysis that explains how the SBRM meets the purposes described at 50 CFR 600.1600. Final Amendment 12 reviews of SBRMs for HMS fisheries.

Also in 2017, NMFS issued a Fisheries Allocation Review Policy Directive and Procedures (01-119), which described a mechanism to ensure that fishery quota allocations are periodically reviewed and evaluated to remain relevant to current conditions, improve transparency, and minimize conflict for a process that is often controversial. Final Amendment 12 establishes triggers for review of allocations of quota-managed HMS.

Finally, the HMS Stock Assessment and Fishery Evaluation (SAFE) Report is a public document that provides a summary of scientific information concerning the most recent biological condition of stocks, stock complexes, and marine ecosystems, essential fish habitat (EFH), and the social and economic condition of recreational and commercial HMS fishing interests, fishing communities, and the fish processing industries. NS2 guidelines specify that SAFE reports summarize, on a periodic basis, the best scientific information available concerning the past, present, and possible future condition of the stocks, EFH, marine ecosystems, and fisheries being managed under Federal regulation. In 2008, NMFS published Amendment 2 to the 2006 Consolidated HMS FMP which, among other things, indicated that publication of the HMS SAFE Report would occur by the fall of each year. Final Amendment 12 notifies the public of modified timing for release of the HMS SAFE Report to account for unexpected delays (e.g., data availability, staff availability, furloughs, emergencies, etc.).

Final Amendment 12 is consistent with the revised 2016 NS guidelines, the 2017 SBRM rulemaking, and the 2017 Fisheries Allocation Review Policy Directive 01-119, along with other relevant statutes and the 2006 Consolidated Atlantic HMS FMP and its amendments. There is no final rule or regulatory text associated with Final Amendment 12. Quotas or other fishery management measures will not be changed or affected as a result of this amendment. Any operational changes to fishery management measures as a result of Final Amendment 12 would be considered in future rulemakings, as appropriate.

On August 25, 2020, NMFS published a notice of availability of Draft Amendment 12 (85 FR 52329). Given that specific changes to fishery management measures are not proposed or evaluated in this amendment; NMFS does not expect any impacts. Furthermore, no extraordinary circumstances exist, and the action is not expected to be controversial. Thus, NMFS has determined that Final Amendment 12 would appropriately be categorically excluded from further analysis under the National Environmental Policy Act (NEPA).

NMFS sought public comment on Draft Amendment 12 through October 26, 2020. Additionally, NMFS conducted two public hearing conference calls/webinars for interested members of the public to submit verbal comments. NMFS received one written comment on the Draft Amendment, and received a number of additional comments and/or clarifying questions at the September 2020 Atlantic HMS Advisory Panel meeting and the two webinars. In general, commenters supported the intent of Draft Amendment 12 to address the 2006 Consolidated HMS FMP objectives, to adopt international SDC for internationally managed HMS, to update SBRM, to adopt triggers for review of allocations, and to adjust the publication date of the annual SAFE Report. Regarding reassessment of HMS FMP objectives, some commenters indicated support or opposition to certain changes, with some suggesting specific changes to strengthen, broaden, streamline, keep, or clarify the text, including for flexibility purposes. See the response to comments in the Appendix of Final Amendment 12.

Final Amendment 12 revises 12 of the 16 baseline HMS management objectives identified in the 2006 Consolidated HMS FMP and adds three new objectives. For further information including the full set of revised HMS FMP objectives, see the Final Amendment 12 document. Table 1 summarizes the three changes to the HMS FMP objectives relative to the revisions NMFS proposed in Draft Amendment 12, based on public comment and further consideration.

Table 1—Changes to the HMS FMP Objectives Relative to the Revisions NMFS Proposed in Draft Amendment 12
Objective # | Text of 2006 consolidated HMS FMP objective | Text of revised FMP objective | Rationale for revision
14 | Optimize the social and economic benefits to the nation by reserving the Atlantic billfish resource for its traditional use, which in the United States is entirely a recreational fishery | Optimize the social and economic benefits to the nation by reserving the Atlantic billfish resource for its traditional use, which in the United States is entirely a recreational fishery | No change. Although Atlantic billfish are already reserved for the recreational fishery and are prohibited from being landed commercially, NMFS has decided to retain Objective 14 in the HMS FMP to maintain this important concept in managing HMS fisheries.
15 | Increase understanding of the condition of HMS stocks and HMS fisheries | Increase understanding of the condition of Atlantic HMS stocks and fisheries, including stock status, biological, social, and economic information, and how HMS stocks and fisheries interact with other federally managed fisheries and species | Adds text to elaborate on the type of information that could help with understanding Atlantic HMS stocks and fisheries.
18 | Consistent with the other objectives of this FMP, consider ecosystem-based effects to support and enhance effective HMS fishery management | Consistent with the other objectives of this FMP, consider ecosystem-based effects and seek to understand the impacts of shifts in the environment, including climate change, on Atlantic HMS fisheries to support and enhance effective HMS fishery management | Adds an objective to consider ecosystem-based effects and shifts in the environment, including climate change, in Atlantic HMS fishery management.

Authority: 16 U.S.C. 971 et seq., and 1801 et seq.

Dated: August 17, 2021.
Kelly Denit,
Director, Office of Sustainable Fisheries, National Marine Fisheries Service.

[FR Doc. 2021-17887 Filed 8-19-21; 8:45 am]

BILLING CODE 3510-22-P